DEPARTMENT OF HEALTH AND HUMAN SERVICES

Health Resources and Services Administration

Solicitation of Nominations for Membership To Serve on the National Advisory Council on Migrant Health

AGENCY: Health Resources and Services Administration (HRSA), Department of Health and Human Services (HHS).

ACTION: Request for nominations.

SUMMARY: HRSA is seeking nominations of qualified candidates for consideration for appointment as members of the National Advisory Council on Migrant Health (NACMH). NACMH advises, consults with, and makes recommendations to the Secretary of HHS concerning the organization, operation, selection, and funding of migrant health centers (MHCs) and other entities, under grants and contracts under the Public Health Service (PHS) Act. HRSA is seeking nominations to fill two positions on NACMH.

AUTHORITY: NACMH is authorized by section 217 of the PHS Act, Title 42 U.S.C. 218, and established by the Secretary of HHS. It is governed by the Federal Advisory Committee Act of 1972, as amended (5 U.S.C. Chapter 10), which sets forth standards for the formation and use of advisory committees.

DATES: HRSA will receive written nominations for NACMH membership on a continuous basis.

ADDRESSES: Nomination packages must be submitted in hard copy to the Designated Federal Official (DFO), NACMH, Strategic Initiatives, Office of Policy and Program Development, Bureau of Primary Health Care, HRSA, 16N38B, 5600 Fishers Lane, Rockville, Maryland 20857.

FOR FURTHER INFORMATION CONTACT: All requests for information regarding NACMH nominations should be sent via email to the NACMH DFO at hrsabphcoppdnacmh@hrsa.gov. A copy of the NACMH charter and list of the current membership is available on the NACMH web page at https://www.hrsa.gov/advisory-committees/migrant-health.

SUPPLEMENTARY INFORMATION: NACMH was established and authorized under section 217 of the PHS Act (42 U.S.C. 218) to advise, consult with, and make recommendations to the Secretary of HHS concerning the organization, operation, selection, and funding of MHCs, and other entities under grants and contracts under section 330(g) of the PHS Act (42 U.S.C. 254b(g)). NACMH meets twice each calendar year, or at the discretion of the DFO in consultation with the Chair.

Nominations: HRSA is requesting nominations for two voting members to serve as Special Government Employees (SGEs) on NACMH. Specifically, HRSA is requesting nominations for the following positions: MHC board member (one nominee); and MHC Administrator/Provider (one nominee). The board member nominee must be a member or member-elect of a governing board of an organization receiving funding under section 330(g) of the PHS Act. Additionally, the board member nominee must be familiar with the delivery of primary health care to migratory and seasonal agricultural workers (MSAWs) and their families. The Administrator/Provider nominee must be qualified by training and experience in medical sciences or in the administration of health programs for MSAWs and their families. Interested applicants may self-nominate or be nominated by another individual or organization.

The Secretary of HHS appoints NACMH members with the expertise needed to fulfill the duties of the Advisory Committee. The membership requirements set-forth under section 217 of the PHS Act require that the NACMH consist of 15 members, at least 12 of whom shall be members of the governing boards of MHCs, or other entities assisted under section 330(g) of the PHS Act. Of these 12 board members, at least nine shall be individuals who are MHC patients and familiar with the delivery of health care to MSAWs. The remaining three NACMH members shall be individuals qualified by training and experience in the medical sciences or in the administration of health programs. New members filling a vacancy occurring prior to term expiration may serve only for the remainder of such term. Members may serve after term expiration until their successors take office, but no longer than 120 days. Nominees must reside in the United States, and international travel cannot be funded.

Individuals selected for appointment to the NACMH will be invited to serve for up to 4 years. Members appointed as SGEs receive a stipend and reimbursement for per diem and travel expenses incurred for attending NACMH meetings and/or conducting other business on behalf of the NACMH, as authorized by 5 U.S.C. 5703 for persons employed intermittently in government service.

The following information must be included in the package of materials submitted for each individual nominated for consideration: (1) NACMH nomination form, which can be requested by contacting the DFO at the email provided above; (2) three letters of reference; (3) a statement of any prior service on the NACMH; and (4) a current copy of the nominee's resume. Nomination packages may be submitted directly by the individual being nominated or by the person/organization recommending the candidate.

HHS endeavors to ensure that NACMH membership is balanced in terms of points of view represented and that individuals from a broad representation of geographic areas, gender, linguistically diverse ethnic and minority groups, and individuals with disabilities, are considered for membership. Appointments shall be made without discrimination on the basis of age, race, ethnicity, gender, sexual orientation, or cultural, religious, or socioeconomic status.

Individuals who are selected to be considered for appointment will be required to provide detailed information regarding their financial holdings, consultancies, and research grants or contracts, if the applicant has any to report. Disclosure of this information is required for HRSA ethics officials to determine whether there is a potential conflict of interest between the SGE's public duties as a member of the NACMH and their private interests, including an appearance of a loss of impartiality as defined by federal laws and regulations, and to identify any required remedial action needed to address the potential conflict.

Maria G. Button,
Director, Executive Secretariat.

[FR Doc. 2023-04706 Filed 3-7-23; 8:45 am]

BILLING CODE 4165-15-P